DEPARTMENT OF HEALTH AND HUMAN SERVICES

National Institutes of Health

National Cancer Institute; Amended Notice of Meeting

Notice is hereby given of a change in the meeting of the National Cancer Institute Special Emphasis Panel, April 01, 2014, 08:30 a.m. to April 01, 2014, 06:00 p.m., Embassy Suites Alexandria, 1900 Diagonal Road, Alexandria, VA 22314, which was published in the Federal Register on January 14, 2014, 79 FR 2459.

This notice is being amended to change the start time to 8:00 a.m. The meeting is closed to the public.

Dated: January 28, 2014.
Melanie J. Gray,
Program Analyst, Office of Federal Advisory Committee Policy.

[FR Doc. 2014-02102 Filed 1-31-14; 8:45 am]

BILLING CODE 4140-01-P